DEPARTMENT OF LABOR

Employment and Training Administration

[TA-W-38,442; et al.]

CMI Industries, Inc.; Amended Certification Regarding Eligibility To Apply for Worker Adjustment Assistance

In accordance with section 223 of the Trade Act of 1974 (19 U.S.C. 2273) the Department of Labor issued a Notice of Certification Regarding Eligibility to Apply for Worker Adjustment Assistance on April 13, 2001, applicable to workers of CMI Industries, Inc., Clinton Fabric Division, Clinton, South Carolina. The notice was published in the Federal Register on May 2, 2001 (66 FR 22007).

At the request of the company, the Department reviewed the certification for workers of the subject firm. The workers were engaged in the production of griege woven fabric. New information shows that some workers separated from employment at the subject firm had their wages reported under a separate unemployment insurance (UI) tax account for Defender Services, Inc.

Accordingly, the Department is amending the certification to properly reflect this matter.

The intent of the Department's certification is to include all workers of CMI Industries, Inc. who were adversely affected by increased imports of griege woven fabric.

The amended notice applicable to TA-W-38,442 is hereby issued as follows:

All workers of CMI Industries, Inc., Clinton Fabric Division, Defender Services, Inc., Clinton, South Carolina (TA-W-38,442), Bailey Plant, Clinton, South Carolina (TA-W-38,442A), Vance Complex, Clinton, South Carolina (TA-W-38,442B) and Administrative Office, Clinton, South Carolina (TA-W-38,442C) who became totally or partially separated from employment on or after December 4, 1999 through April 13, 2003 are eligible to apply for adjustment assistance under section 223 of the Trade Act of 1974.

Signed at Washington, DC this 29th day of June, 2001.
Linda G. Poole,
Certifying Officer, Division of Trade Adjustment Assistance.

[FR Doc. 01-17361 Filed 7-10-01; 8:45 am]

BILLING CODE 4510-30-M